DEPARTMENT OF DEFENSE

Office of the Secretary

[Docket ID: DoD-2024-OS-0071]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 26, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DoD, Military Community and Family Policy, 4800 Mark Center Dr. Alexandria, VA 22350, Angela Whittaker, 202-430-2480.

SUPPLEMENTARY INFORMATION:

Title; Associated Form; and OMB Number: Family Advocacy Program (FAP): Child Abuse and Domestic Abuse Incident Reporting System; OMB Control Number 0704-0536.

Needs and Uses: This information collection provides the child abuse and domestic abuse incident data from the FAP Central Registry, as required by section 574 of the National Defense Authorization Act (NDAA) for FY 2017 (Pub. L. 114-328), as amended by section 549 of the NDAA for FY 2022 (Pub. L. 117-81). In addition to meeting the Congressional requirement, this report provides critical aggregate information on the circumstances of child abuse and neglect and domestic abuse incidents, which further informs ongoing prevention and response efforts. The aggregate FAP Central Registry data derived from this information collection and submitted from each Military Service (Army, Navy, Marine Corps, and Air Force) offers a DoD-wide description of the child abuse and neglect and domestic abuse incidents that are reported to FAP. Information is collected on military members and associated family members who have been referred to the installation FAP after a reported incident of family maltreatment, either domestic abuse or child abuse and neglect. The purpose of the collection is to determine eligibility for FAP services and to initiate a clinical record.

Affected Public: Individuals or households.

Annual Burden Hours: 15,402.

Number of Respondents: 20,536.

Responses per Respondent: 1.

Annual Responses: 20,536.

Average Burden per Response: 45 minutes.

Frequency: On occasion.

Dated: June 20, 2024.
Aaron T. Siegel,
Alternate OSD Federal Register Liaison Officer, Department of Defense.

[FR Doc. 2024-14073 Filed 6-26-24; 8:45 am]

BILLING CODE 6001-FR-P